DEPARTMENT OF LABOR

Employment and Training Administration

Notice of Availability of Funds and Solicitation for Grant Applications for Training To Work 2-Adult Reentry

AGENCY: Employment and Training Administration, Labor.

ACTION: Notice of Solicitation for Grant Applications (SGA).

Funding Opportunity Number: SGA/DFA PY-13-03.

SUMMARY: The Employment and Training Administration (ETA), U.S. Department of Labor, announces the availability of approximately $30 million for grants to serve male and female ex-offenders enrolled in work release programs (WRPs) as authorized by the Workforce Investment Act and the Second Chance Act of 2007.

This Training to Work 2-Adult Reentry SGA provides the opportunity for organizations to develop and implement career pathway programs in demand sectors and occupations for individuals who are at least 18 years old and who are enrolled in WRPs. Career pathways are frameworks that help to define and map out a sequence of education, training and workforce skills training resulting in skilled workers that meets employers' needs. Career pathways are an approach to linking and coordinating education and training services in ways that enable individuals to attain such credentials, and ultimately, employment.

Successful applicants will: (1) Establish a committed Career Pathways Collaborative led by the grantee that will be a non-profit organization such as a faith-based or community-based organization, and include representatives from the workforce system, WRP, and employers and/or industry associations. The collaborative will create a career pathway(s) program that defines each organizations' specific roles and responsibilities including the identification of a career pathway(s) in demand sector(s) within its community, and (2) provide an integrated set of critical participant-level services such as case management and skills training that enable participants to get on the career pathway(s) and advance along those pathways as they acquire additional skills.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is April 18, 2014. Applications must be received no later than 4:00:00 p.m. Eastern Time.

FOR FURTHER INFORMATION CONTACT: Mamie Williams, 200 Constitution Avenue NW., Room N-4716, Washington, DC 20210; Telephone: 202-693-3341.

Signed February 18, 2014 in Washington, DC
Eric D. Luetkenhaus,
Grant Officer, Employment and Training Administration.

[FR Doc. 2014-03895 Filed 2-21-14; 8:45 am]

BILLING CODE 4510-FN-P